SMALL BUSINESS ADMINISTRATION

Delegation of Authority as to Denial of Liability on 7(a) Loans

The Administrator of the U.S. Small Business Administration (SBA), Hector V. Barreto, pursuant to the authority vested in him by the Small Business Act, 72 Stat. 384, as amended, hereby delegates to the Associate Deputy Administrator for Capital Access (ADA/CA), or to anyone Acting in the position of ADA/CA, the following authorities:

1. To make the final Agency decision to deny SBA's liability under its guaranty of a 7(a) loan.

2. To approve the initiation of a lawsuit against a participant lender for recovery of proceeds received by that lender in connection with SBA's guaranty of a 7(a) loan.

Neither the ADA/CA, nor anyone Acting in the position of ADA/CA, is authorized to further delegate these authorities.

Dated: August 4, 2003.
Hector V. Barreto,
Administrator.

[FR Doc. 03-21671 Filed 8-22-03; 8:45 am]

BILLING CODE 8025-01-P